FEDERAL ELECTION COMMISSION

[ Notice 2007-5]

Filing Dates for the Georgia Special Election in the 10th Congressional District

AGENCY: Federal Election Commission.

ACTION: Notice of filing dates for special election.

SUMMARY: Georgia has scheduled a special general election on June 19, 2007, to fill the U.S. House of Representatives seat in the Tenth Congressional District held by the late Representative Charlie Norwood. Under Georgia law, a majority winner in a nonpartisan special election is declared elected. Should no candidate achieve a majority vote, a special runoff election will be held on July 17, 2007, between the top two vote-getters.

Committees participating in the Georgia special elections are required to file pre- and post-election reports. Filing dates for these reports are affected by whether one or two elections are held.

FOR FURTHER INFORMATION CONTACT: Mr. Kevin R. Salley, Information Division, 999 E Street, NW., Washington, DC 20463; Telephone: (202) 694-1100; Toll Free (800) 424-9530.

SUPPLEMENTARY INFORMATION:

Principal Campaign Committees

All principal campaign committees of candidates who participate in the Georgia Special General and Special Runoff Elections shall file a 12-day Pre-General Report on June 7, 2007; a Pre-Runoff Report on July 5, 2007; and a Post-Runoff Report on August 16, 2007. (See chart below for the closing date for each report).

If only one election is held, all principal campaign committees of candidates in the Special General Election shall file a 12-day Pre-General Report on June 7, 2007; and a Post-General Report on July 19, 2007. (See chart below for the closing date for each report).

Unauthorized Committees (PACs and Party Committees)

Political committees filing on a semiannual basis in 2007 are subject to special election reporting if they make previously undisclosed contributions or expenditures in connection with the Georgia Special General or Special Runoff Elections by the close of books for the applicable report(s). (See chart below for the closing date for each report).

Committees filing monthly that support candidates in the Georgia Special General or Special Runoff Election should continue to file according to the monthly reporting schedule.

Disclosure of Electioneering Communications (Individuals and Other Unregistered Organizations)

Federal Election Commission electioneering communications rules govern television and radio communications that refer to a clearly identified federal candidate and are distributed within 60 days prior to a special general election (including a special general runoff). 11 CFR 100.29. See also 2 U.S.C. 434(f). The statute and regulations require, among other things, that individuals and other groups not registered with the FEC who make electioneering communications costing more than $10,000 in the aggregate in a calendar year disclose that activity to the Commission within 24 hours of the distribution of the communication. See 2 U.S.C. 434(f)(1) and 11 CFR 104.20.

The 60-day electioneering communications period in connection with the Georgia Special General runs from April 20, 2007 through June 19, 2007. The 60-day electioneering communications period in connection with the Georgia Special Runoff runs from May 18, 2007 through July 17, 2007.

Calendar of Reporting Dates for Georgia Special Election

Report | Close of books ¹ | Reg./cert. & overnight mailing deadline | Filing deadline
If only the special general is held (06/19/07), quarterly filing committees involved must file:
Pre-General | 05/30/07 | 06/04/07 | 06/07/07
July Quarterly |  | waived |
Post-General | 07/09/07 | 07/19/07 | 07/19/07
October Quarterly | 09/30/07 | 10/15/07 | 10/15/07
If only the special general is held (06/19/07), semiannual filing committees involved must file:
Pre-General | 05/30/07 | 06/04/07 | 06/07/07
Post-General & Mid-Year ² | 07/09/07 | 07/19/07 | 07/19/07
Year-End | 12/31/07 | 01/31/08 | 01/31/08
If two elections are held, quarterly filing committees involved only in the special general (06/19/07) must file:
Pre-General | 05/30/07 | 06/04/07 | 06/07/07
July Quarterly | 06/30/07 | 07/15/07 | ³07/15/07
If two elections are held, semiannual filing committees involved only in the special general (06/19/07) must file:
Pre-General | 05/30/07 | 06/04/07 | 06/07/07
Mid-Year | 06/30/07 | 07/31/07 | 07/31/07
Quarterly filing committees involved in the special general (06/19/07) and special runoff (07/17/07) must file:
Pre-General | 05/30/07 | 06/04/07 | 06/07/07
July Quarterly |  | Waived |
Pre-Runoff | 06/27/07 | 07/02/07 | 07/05/07
Post-Runoff | 08/06/07 | 08/16/07 | 08/16/07
October Quarterly | 09/30/07 | 10/15/07 | 10/15/07
Semiannual filing committees involved in the special general (06/19/07) and special runoff (07/17/07) must file:
Pre-General | 05/30/07 | 06/04/07 | 06/07/07
Pre-Runoff | 06/27/07 | 07/02/07 | 07/05/07
Mid-Year | 06/30/07 | 07/31/07 | 07/31/07
Post-Runoff | 08/06/07 | 08/16/07 | 08/16/07
Year-End | 12/31/07 | 01/31/08 | 01/31/08
Quarterly filing committees involved only in the special runoff (07/17/07) must file:
July Quarterly |  | Waived |
Pre-Runoff | 06/27/07 | 07/02/07 | 07/05/07
Post-Runoff | 08/06/07 | 08/16/07 | 08/16/07
October Quarterly | 09/30/07 | 10/15/07 | 10/15/07
Semiannual filing committees involved only in the special runoff (07/17/07) must file:
Pre-Runoff | 06/27/07 | 07/02/07 | 07/05/07
Mid-Year | 06/30/07 | 07/31/07 | 07/31/07
Post-Runoff | 08/06/07 | 08/16/07 | 08/16/07
Year-End | 12/31/07 | 01/31/08 | 01/31/08
¹ The period begins with the close of books of the last report filed by the committee. If the committee has filed no previous reports, the period begins with the date of the committee's first activity.
² Committees should file a consolidated Post-General and Mid-Year Report by the filing date of the Post-General Report.
³ Notice that this deadline falls on a holiday or a weekend. Filing dates are not extended when they fall on nonworking days. Accordingly, reports filed by methods other than Registered, Certified or Overnight Mail, or electronically, must be received before the Commission's (or for committees supporting only Senate candidates, the Secretary of Senate's) close of business on the last business day before the deadline.

Dated: March 2, 2007.
Robert D. Lenhard,
Chairman, Federal Election Commission.

[FR Doc. E7-4183 Filed 3-8-07; 8:45 am]

BILLING CODE 6715-01-P